DEPARTMENT OF COMMERCE

Census Bureau

2007 Survey of Business Owners (SBO)

ACTION: Proposed information collection; comment request.

SUMMARY: The Department of Commerce, as part of its continuing effort to reduce paperwork and respondent burden, invites the general public and other Federal agencies to take this opportunity to comment on proposed and/or continuing information collections, as required by the Paperwork Reduction Act of 1995, Public Law 104-13 (44 U.S.C. 3506(c)(2)(A)).

DATES: Written comments must be submitted on or before July 23, 2007.

ADDRESSES: Direct all written comments to Diana Hynek, Departmental Paperwork Clearance Officer, Department of Commerce, Room 6625, 14th and Constitution Avenue, NW., Washington, DC 20230 (or via the Internet at DHynek@doc.gov).

FOR FURTHER INFORMATION CONTACT: Requests for additional information or copies of the information collection instrument(s) and instructions should be directed to Valerie Strang, U.S. Census Bureau, CSD, Room 6K072E, Washington, DC 20233-6400, (301) 763-3317.

SUPPLEMENTARY INFORMATION

I. Abstract

The Census Bureau plans to conduct the 2007 Survey of Business Owners (SBO). In the SBO, businesses are asked several questions about their business as well as several questions about the gender, Hispanic or Latino origin, and race of the principal owner(s). This survey provides the only comprehensive, regularly collected source of information on the characteristics of U.S. businesses by ownership category, i.e., by gender, Hispanic or Latino origin, and race. The survey is conducted as part of the economic census program which is required by law to be taken every 5 years under Title 13 of the United States Code, Sections 131, 193, and 224.

Businesses which reported any business activity on any one of the following Internal Revenue Service tax forms will be eligible for selection: 1040 (Schedule C), “Profit or Loss From Business (Sole Proprietorship); 1065, U.S. Return of Partnership Income; 941, “Employer's Quarterly Federal Tax Return”; or any one of the 1120 corporate tax forms.

The following changes have been made to the 2007 SBO:

• The survey form was expanded to collect a variety of characteristics for up to four individual owners. There was space for up to three owners in 2002, but this was found not to be sufficient in determining equal male-/female-ownership.

• The race question has been modified to meet OMB guidelines to allow respondents to select the “Some Other Race” category.

• Examples are provided for the “Other Hispanic, Latino, or Spanish origin,” “Other Asian”, and “Other Pacific Islander” write-in categories.

• Twenty-two new questions have been added to our questionnaire.

There are four new questions that are asked of each owner:

1. How did the owner acquire ownership of the business?

2. When did the owner acquire ownership of the business?

3. Prior to establishing, purchasing, or acquiring the business, had the owner ever owned a business or been self-employed?

4. Was the owner born in the United States?

There are eighteen new business questions:

1. Was the business jointly owned by a husband and wife?

2. How many owners were there in the business?

3. Did a franchiser own more than 50% of the business?

4. What was the total amount of capital used to start or acquire the business?

5. Did the business forego expansion or capital improvement due to a lack of access to capital?

6. What percent of the business's total sales of goods and/or services consisted of exports outside the United States?

7. What geographic area(s) best describes the market where the business's goods and/or services were sold?

8. In which language(s) did the business conduct transactions?

9. Did the business establish operations outside the United States?

10. Did the business outsource or transfer any business function or service to a company outside the United States?

11. Which of the following techniques were used to attract, develop and/or retain workers?

12. Did the business have a Web site?

13. Did the business make purchases online?

14. Did the business have e-commerce sales?

15. What percent of the business's goods and/or services were e-commerce sales?

16. What characteristic(s) describe the self-employment or business activity?

17. Is the business currently operating?

18. If no, did the business cease operating for any of the following reasons?

These items will address important concerns of many data users, including the U.S. House of Representatives Committee on Veterans' Affairs, the Small Business Administration, and the Center for Women's Business Research.

We received clearance from the Office of Management and Budget (OMB) to test our newly proposed 2007 SBO questionnaire. Cognitive interviews with fourteen businesses were conducted between December 5-15, 2006. These interviews continued on January 29, 2007 through February 1, 2007. Upon completion of the first round of interviews, the interview team met and decided on the recommended changes to the form. The form was revised and a second round of interviews began on April 9, 2007, through April 27, 2007. The team met again after the second round and the form was revised again. On May 29, 2007 a third and final round of testing began. This testing continues as this presubmission notice is processed. There are plans to make final changes to the form by June 15.

II. Method of Collection

The Census Bureau will use a mailout/mailback survey form to collect the data. The questionnaires will be mailed from our National Processing Center in Jeffersonville, Indiana. Three mail follow-ups to non-respondents will be conducted at approximately one-month intervals. Upon closeout of the survey, the response data will be edited and reviewed.

III. Data

OMB Number: None.

Form Number: SBO-1, 2007 Survey of Business Owners and Self-Employed Persons.

Type of Review: Regular submission.

Affected Public: Business and other for-profit organizations, and non-profit organizations, and publicly held corporations.

Estimated Number of Respondents: 2.3 million.

Estimated Time Per Response: 12 minutes.

Estimated Total Annual Burden Hours: 460,000.

Estimated Total Annual Cost: $11,546,000.

Respondent's Obligation: Mandatory.

Legal Authority: Title 13, United States Code, Sections 131, 193, and 224.

IV. Request for Comments

Comments are invited on: (a) Whether the proposed collection of information is necessary for the proper performance of the functions of the agency, including whether the information will have practical utility; (b) the accuracy of the agency's estimate of the burden (including hours and cost) of the proposed collection of information; (c) ways to enhance the quality, utility, and clarity of the information to be collected; and (d) ways to minimize the burden of the collection of information on respondents, including the use of automated collection techniques or other forms of information technology.

Comments submitted in response to this notice will be summarized and/or included in the request for OMB approval of this information collection; they also will become a matter of public record.

Dated: May 17, 2007.
Gwellnar Banks,
Management Analyst, Office of the Chief Information Officer.

[FR Doc. E7-9868 Filed 5-22-07; 8:45 am]

BILLING CODE 3510-07-P